DEPARTMENT OF HOUSING AND URBAN DEVELOPMENT

[Docket No. FR-5909-N-09]

30-Day Notice of Proposed Information Collection: Public Housing Agency (PHA) 5-Year and Annual Plan

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: March 25, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on November 18, 2015 at 80 FR 72097.

A. Overview of Information Collection

Title of Information Collection: Public Housing Agency (PHA) 5-Year and Annual Plan.

OMB Approval Number: 2577-0226.

Type of Request: Revision of currently approved collection.

Form Number: HUD-50075-5Y, HUD-50075-ST, HUD-50075-SM, HUD-50075-HCV, HUD-50075-HP, HUD-50077-CR, HUD-50077-SL, HUD-50077-CRT-SM, HUD-50077-ST-HCV-HP, HUD-50070, HUD-50071.

Description of the need for the information and proposed use: The Public Housing Agency (PHA) Plan was created by section 5A of the United States Housing Act of 1937 (42 U.S.C. 1437c-1). There are two different PHA Plans: the Five-Year Plan and the Annual Plan. The Five-Year Plan describes the agency's mission and long-range goals and objectives for achieving its mission over a five-year period, and their approach to managing programs and providing services for the upcoming year. The Annual PHA Plan is a comprehensive guide to PHA policies, programs, operations, and strategies for meeting local housing needs and goals.

The PHA Plans informs HUD, residents, and the public of the PHA's mission for serving the needs of low, very low-income, and extremely low-income families and its strategy for addressing those needs. This information helps provide accountability to the local community for how PHAs spend their funding and implement their policies. Also, PHA plans allow HUD to monitor the performance of programs and the performance of public housing agencies that administer them.

HUD's most recent action in October 2015 was to post a version of this collection which OMB approved as a full revision incorporating public comments in 2013, and with minor changes in late 2014. Public commenters urged HUD to return to earlier multiple versions of PHA Plan templates by specific PHA type instead of a “One-Size Fits All” form. With this current proposed information collection, HUD intends to further modify the HUD-50075-5Y, HUD-50075-ST, HUD-50075-SM, HUD-50075-HCV, HUD-50075-HP templates and HUD-50077 Civil Rights, PHA Plan, Related Regulations, and Consistency with State/local Consolidated Plan certifications in the following manner as needed without a major overhaul as was done for the 2013 approval: (1) Additional instructions will be provided to PHA's planning to convert all ACC units to Project-Based Assistance under RAD resulting in the removal of all ACC units from the PHAs public housing inventory. These PHA's will be required to provide a plan for disposition of remaining public housing property, (2) Incorporating mandatory RAD information into the existing PHA Plan templates to improve, streamline, and provide clarity to the RAD significant amendment process, (3) Modify all forms as needed to reference or otherwise address the new requirements of the Affirmatively Furthering Fair Housing (AFFH) Rule published July 16, 2015, (4) Re-introduce as a submission requirement “Challenged Elements,” (5) Remove obsolete references to OMB circulars that were replaced by OMB's Uniform Administrative Requirements, Cost Principles, and Audit Requirements in 2 CFR 200, (6) Expand the Civil Rights certification to include equal access to all housing regardless of LGBT and marital status and prohibit inquiries made of applications or occupants concerning sexual orientation or gender identification and, (7) Replacing the 50077 form with customized versions to align with streamlined requirements of 24 CFR 903.

Finally, due to the de-coupling of Capital Fund Program activities from PHA Plan submissions, the HUD-50075.1 and HUD-50075.2 Capital Fund Annual Statement/Performance and Evaluation Report and 5-Year Action Plan forms and associated burden hours (10,070) will be removed from the approval for the PHA Plan under OMB no. 2577-0226 and added to the approval for the Capital Fund Program under OMB no. 2577-0157.

Respondents (i.e. affected public): Local, Regional and State Body Corporate Politic Public Housing Agencies (PHAs) Governments.

Estimated Number of Respondents: 3,819.

Estimated Number of Responses: 3,819 (Annual Plan: 913 and 5 Year Plan: 3,819).

Frequency of Response: Every five years for all PHAs, annually for all PHAs except HERA Qualified PHAs.

Average Hours per Response: 7.63 weighted average.

Total Estimated Burdens: 14,937.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: February 18, 2016.
Colette Pollard,
Department Reports Management Officer, Office of the Chief Information Officer.

[FR Doc. 2016-03920 Filed 2-23-16; 8:45 am]

BILLING CODE 4210-67-P